DEPARTMENT OF AGRICULTURE

Animal and Plant Health Inspection Service

7 CFR Part 354

[Docket No. 01-111-1]

Commuted Traveltime Periods: Overtime Services Relating to Imports and Exports

AGENCY: Animal and Plant Health Inspection Service, USDA.

ACTION: Final rule.

SUMMARY: We are amending the regulations concerning overtime services provided by employees of Plant Protection and Quarantine by revising commuted traveltime allowances for travel between various locations in the State of Washington. Commuted traveltime allowances are the periods of time required for Plant Protection and Quarantine employees to travel from their dispatch points and return there from the places where they perform Sunday, holiday, or other overtime duty. The Government charges a fee for certain overtime services provided by Plant Protection and Quarantine employees and, under certain circumstances, the fee may include the cost of commuted traveltime. This action is necessary to inform the public of commuted traveltime for these locations.

EFFECTIVE DATE: January 9, 2002.

FOR FURTHER INFORMATION CONTACT: Mr. Roger F. West, Senior Staff Officer, Port Operations, PPQ, APHIS, 4700 River Road Unit 60, Riverdale, MD 20737-1236; (301) 734-8891.

SUPPLEMENTARY INFORMATION:

Background

The regulations in 7 CFR, chapter III, and 9 CFR, chapter I, subchapter D, require inspection, laboratory testing, certification, or quarantine of certain plants, plant products, animals, animal products, or other commodities intended for importation into or exportation from the United States.

When an employee of the Animal and Plant Health Inspection Service's Plant Protection and Quarantine (PPQ) program must provide these services on a Sunday, holiday, or at any other time outside the PPQ employee's regular duty hours, the Government charges a fee for the services according to 7 CFR part 354. Under circumstances described in § 354.1(a)(2), this fee may include the cost of commuted traveltime. Section 354.2 contains administrative instructions prescribing commuted traveltime allowances, which reflect, as nearly as practicable, the periods of time required for PPQ employees to travel from their dispatch points and return there from the places where they perform Sunday, holiday, or other overtime duties.

We are amending § 354.2 of the regulations by revising the commuted traveltime allowances for travel between various locations in the State of Washington. The revised allowances are set forth in the rule portion of this document. This action is necessary to inform the public of the commuted traveltime between the dispatch and service locations.

Effective Date

The commuted traveltime allowances appropriate for employees performing services at ports of entry and the features of the reimbursement plan for recovering the cost of furnishing port of entry services depend upon facts within the knowledge of the Department of Agriculture. It does not appear that public participation in this rulemaking proceeding would make additional relevant information available to the Department.

Accordingly, pursuant to the administrative provisions in 5 U.S.C. 553, we find upon good cause that prior notice and other public procedures with respect to this rule are impracticable and unnecessary; we also find good cause for making this rule effective less than 30 days after publication of this document in the Federal Register.

Executive Order 12866 and Regulatory Flexibility Act

This final rule has been reviewed under Executive Order 12866. For this action, the Office of Management and Budget has waived its review process required by Executive Order 12866.

The number of requests for overtime services of a PPQ employee at the locations affected by this rule represents an insignificant portion of the total number of requests for these services in the United States.

Under these circumstances, the Administrator of the Animal and Plant Health Inspection Service has determined that this action will not have a significant economic impact on a substantial number of small entities.

Executive Order 12988

This final rule has been reviewed under Executive Order 12988, Civil Justice Reform.

This rule is intended to have preemptive effect with respect to any State or local laws, regulations, or policies that conflict with its provisions or that would otherwise impede its full implementation. This rule is not intended to have retroactive effect. There are no administrative procedures that must be exhausted prior to any judicial challenge to the provisions of this rule or the application of its provisions.

Paperwork Reduction Act

This rule contains no new information collection or recordkeeping requirements under the Paperwork Reduction Act of 1995 (44 U.S.C. 3501 et seq.).

List of Subjects in 7 CFR Part 354

Exports, Government employees, Imports, Plant diseases and pests, Quarantine, Reporting and recordkeeping requirements, Travel and transportation expenses.

Accordingly, we are amending 7 CFR part 354 as follows:

PART 354—OVERTIME SERVICES RELATING TO IMPORTS AND EXPORTS; AND USER FEES

1. The authority citation for part 354 continues to read as follows:

Authority: 7 U.S.C. 2260; 21 U.S.C. 136 and 136a; 49 U.S.C. 1741; 7 CFR 2.22, 2.80, and 371.3.

2. In § 354.2, the table is amended by revising the entry for the State of Washington to read as follows:

§ 354.2 Administrative instructions prescribing commuted traveltime.

* * * * *

Commuted Traveltime Allowances
[In hours]
Location covered | Served from— | Metropolitan area: Within | Metropolitan area: Outside
* * * * * * *
Washington:
Aberdeen | Seattle, maritime port |  | 4
Anacortes | Blaine |  | 3
Ault Field | Blaine |  | 4
Bangor NSO | Seattle, maritime port |  | 4
Bellingham | Blaine |  | 2
Blaine |  | 1 |
Brewster | Ellensberg |  | 6
Brewster | Spokane |  | 6
Brewster | Wenatchee |  | 4
Cherry Point | Blaine |  | 1
Edmonds | Seattle, maritime port |  | 2
Ellensburg |  | 1 |
Everett | Seattle, maritime port |  | 3
Ferndale | Blaine |  | 2
Fort Lewis | Tacoma |  | 2
Grays Harbor | Seattle, maritime port |  | 6
Grays Harbor | Tacoma |  | 4
Hood River | Ellensburg |  | 6
Lynden | Blaine |  | 2
McChord AFB | Seattle, maritime port |  | 3
McChord AFB | Tacoma |  | 2
Moses Lake | Ellensburg |  | 3
Moses Lake | Wenatchee |  | 3
Olympia | Seattle, maritime port |  | 3
Olympia | Tacoma |  | 2
Oroville |  | 1 |
Paine Field | Seattle, maritime port |  | 3
Pasco | Ellensburg |  | 5
Pasco | Spokane |  | 6
Pasco | Wenatchee |  | 6
Point Wells | Seattle, maritime port |  | 2
Port Angeles | Seattle, maritime port |  | 6
Port Angeles | Tacoma |  | 6
Port Townsend | Seattle, maritime port |  | 4
Sawyer | Ellensburg |  | 3
Sawyer | Wenatchee |  | 5
SEA TAC Airport |  | 2 |
Seattle, maritime port |  | 2 |
Sumas | Blaine |  | 2
Tacoma |  | 2 |
Wenatchee |  | 1 |
Wenatchee | Ellensburg |  | 4
Wenatchee | Spokane |  | 6
Yakima |  | 1 |
Yakima | Ellensburg |  | 3
Yakima | Wenatchee |  | 6
* * * * * * *

Done in Washington, DC, this 2nd day of January 2002.
W. Ron DeHaven,
Acting Administrator, Animal and Plant Health Inspection Service.

[FR Doc. 02-00453 Filed 1-8-02; 8:45 am]

BILLING CODE 3410-34-P